DEPARTMENT OF HOUSING AND URBAN DEVELOPMENT

[Docket Nos. FR-5100-FA-09]

Announcement of Funding Awards for the Housing Counseling Program for Fiscal Year 2007

AGENCY: Office of the Assistant Secretary for Housing—Federal Housing Commissioner, HUD.

ACTION: Announcement of funding awards.

SUMMARY: In accordance with section 102(a)(4)(C) of the Department of Housing and Urban Development Reform Act of 1989 (42 U.S.C. 3545), this announcement notifies the public of funding decisions made by the Department in a Super Notice of Funding Availability (NOFA) competition for funding of HUD-approved counseling agencies to provide counseling services. Appendix A contains the names and addresses of the agencies competitively selected for funding and the award amounts. Intermediaries are listed first and subsequent awards are grouped by their respective HUD Homeownership Center. Additionally, this announcement lists the noncompetitive housing counseling awards made by the Department.

FOR FURTHER INFORMATION CONTACT: Ruth Román, Director, Program Support Division, Room 9274, Office of Single Family Housing, Department of Housing and Urban Development, 451 Seventh Street, SW., Washington, DC 20410, telephone (202) 708-0317. Hearing- or speech-impaired individuals may access this number by calling the Federal Information Relay Service on 800-877-8339. (This is a toll free number.)

SUPPLEMENTARY INFORMATION: The Housing Counseling Program is authorized by section 106 of the Housing and Urban Development Act of 1968 (12 U.S.C. 1701x). HUD enters into agreement with qualified public or private nonprofit organizations to provide housing counseling services to low- and moderate-income individuals and families nationwide. The services include providing information and assistance to the homeless, renters, first-time homebuyers, homeowners, and senior citizens in areas such as pre-purchase counseling, financial management, property maintenance and other forms of housing assistance to help individuals and families improve their housing conditions and meet the responsibilities of tenancy and homeownership.

HUD funding of approved housing counseling agencies is not guaranteed, and when funds are awarded, a HUD grant does not cover all expenses incurred by an agency to deliver housing counseling services. Counseling agencies must actively seek additional funds from other sources such as city, county, state and federal agencies and from private entities to ensure that they have sufficient operating funds. The availability of Housing Counseling grants depends upon appropriations and the outcome of the award competition.

The 2007 grantees announced in Appendix A of this Notice were selected for funding through a competition announced in a NOFA, published in the Federal Register on March 13, 2007 (Vol. 72, No. 48, page 11524), and corresponding Supplementary Information and Technical Corrections Notice, published in the Federal Register on May 11, 2007 (Vol. 72, No. 91, page 27031), for the Housing Counseling Program. Applications were scored and selected for funding on the basis of selection criteria contained in the NOFA. HUD awarded $41,062,461 for comprehensive housing counseling and $3,000,000 in supplemental funding for reverse mortgage counseling.

Specifically, $24,054,720 was awarded to nineteen intermediaries, $2,276,480 was awarded to seventeen State Housing Finance Agencies (SHFAs) and $14,731,126 was awarded to 352 Local Housing Counseling Agencies (LHCAs).

Additionally, $399,974 was awarded to the American Association of Retired Persons (AARP) Foundation to provide housing counseling training to counselors providing Home Equity Conversion Mortgage (HECM) counseling and $2,600,026 was awarded to Neighbor Works America for comprehensive counseling training counselors participating in HUD's housing counseling program.

Additionally, HUD awarded a noncompetitive grant in the amount of $16,475 to Jefferson Community Action Program (Louisiana).

The Catalog of Federal Domestic Assistance (CFDA) number for the Housing Counseling Program is 14.169. The Housing Counseling Training Program CFDA number is 14.316.

Dated: March 5, 2008.
Brian D. Montgomery,
Assistant Secretary for Housing—Federal Housing Commissioner.

Intermediary Organizations (19)
Headquarters SF-HUD
ACORN HOUSING CORPORATION, 846 N. Broad St., 2nd floor, Philadelphia, PA 19130-2234 Grant Type: Comprehensive. Amount Awarded: $1,628,829.25. | MON VALLEY INITIATIVE, 303-305 E. 8th Avenue, Homestead, PA 15120-1517 Grant Type: Comprehensive. Amount Awarded: $1,100,000.00.
CATHOLIC CHARITIES USA, 1731 King Street, Alexandria, VA 22314-2720 Grant Type: Comprehensive. Amount Awarded: $1,016,473.86. | MONEY MANAGEMENT INTERNATIONAL INC., 9009 West Loop South, Suite 700, Houston, TX 77096-1719 Grant Type: Comprehensive. Amount Awarded: $1,118,533.09.
CITIZENS' HOUSING AND PLANNING ASSOCIATION, INC., 18 Tremont Street, Suite 401, Boston, MA 02108-0000 Grant Type: Comprehensive. Amount Awarded: $710,296.16. | NATIONAL ASSOCIATION OF REAL ESTATE BROKERS-INVESTMENT DIVISION, INC., 3560 Grand Avenue, Oakland, CA 94610 Grant Type: Comprehensive. Amount Awarded: $506,177.70.
HOMEFREE—U S A, 3401 A East West Highway, Hyattsville, DC 20782 Grant Type: Comprehensive. Amount Awarded: $1,016,473.86. | NATIONAL COUNCIL OF LA RAZA, Raul Yzaguirre Building, 1126 16th Street, NW., Suite 600, Washington, DC 20036 Grant Type: Comprehensive. Amount Awarded: $1,322,651.55.
HOMEOWNERSHIP PRESERVATION FOUNDATION, 8400 Normandale Lake Blvd., Suite 250, Mail Code 01-05-50, Minneapolis, MN 55437 Grant Type: Comprehensive. Amount Awarded: $1,016,473.86. | NATIONAL CREDIT UNION FOUNDATION, 601 Pennsylvania Avenue, NW., South Building, Suite 600, Washington, DC 20004-2601 Grant Type: Comprehensive. Amount Awarded: $710,296.16.
HOUSING PARTNERSHIP NETWORK, 160 State Street, 5th Fl., Boston, MA 02109 Grant Type: Comprehensive. Amount Awarded: $2,139,125.41. | NATIONAL FOUNDATION FOR CREDIT COUNSELING, INC., 801 Roeder Road, Suite 900, Silver Spring, MD 20910-3372 Grant Type: Comprehensive. Amount Awarded: $1,730,888.48.
MISSION OF PEACE, 877 East Fifth Ave., Flint, MI 48503 Grant Type: Comprehensive. Amount Awarded: $710,296.16. | NATIONAL URBAN LEAGUE, 120 Wall Street, New York, NY 10005 Grant Type: Comprehensive. Amount Awarded: $914,414.63.
MISSISSIPPI HOMEBUYER EDUCATION CENTER—INITIATIVE, 350 West Woodrow Wilson, Suite 3480, Jackson, MS 39213 Grant Type: Comprehensive. Amount Awarded: $302,059.23. | NEIGHBORHOOD REINVESTMENT CORPORATION/dba NEIGHBORWORKS AMERICA, 1325 G St. NW., Suite 800, Washington, DC 20005-3104 Grant Type: Comprehensive. Amount Awarded: $1,424,710.79.
STRUCTURED EMPLOYMENT ECONOMIC DEVELOPMENT COMPANY, 915 Broadway, 17th Floor, New York, NY 10010 Grant Type: Comprehensive. Amount Awarded: $1,832,947.72. | WEST TENNESSEE LEGAL SERVICES, INCORPORATED, 210 West Main Street, P.O. Box 2066, Jackson, TN 38302-2066 Grant Type: Comprehensive. Amount Awarded: $1,118,533.09.
HQ-TRAINING INTERMEDIARIES (2), AARP Foundation, 601 E Street, NW., Washington, DC 20049 Grant Type: HECM. Amount Awarded: $399,974. | NEIGHBORHOOD REINVESTMENT CORPORATION/dba NEIGHBORWORKS AMERICA, 1325 G Street, NW., Suite 800, Washington, DC 20005-3104 Grant Type: Training. Amount Awarded: $2,600,026.

Local Housing Counseling Agencies (352)
Atlanta (LHCA-COMP)
ACCESS LIVING OF METROPOLITAN CHICAGO, 614 Roosevelt Road, Chicago, IL 60607 Grant Type: Comprehensive. Amount Awarded: $45,000.00. | AFFORDABLE HOUSING ENTERPRISES, INC., 2000 Prinston Ave., College Park, GA 30349 Grant Type: Comprehensive. Amount Awarded: $30,000.00.
AFFORDABLE HOUSING COALITION OF ASHEVILLE AND BUNCOMBE COUNTIES, INC., 34 Wall Street, Suite 607, Asheville, NC 28801 Grant Type: Comprehensive. Amount Awarded: $33,000.00. | ALABAMA COUNCIL ON HUMAN RELATIONS, INC., 319 W. Glenn Ave., P.O. Box 409, Auburn, AL 36831-0409 Grant Type: Comprehensive. Amount Awarded: $30,846.23.
AFFORDABLE HOUSING CORPORATION, 812 South Washington Street, Marion, IN 46953 Grant Type: Comprehensive. Amount Awarded: $53,000.00. | CDBG OPERATIONS CORPORATION, 510 North 25th Street, East St. Louis, IL 62205 Grant Type: Comprehensive. Amount Awarded: $43,400.00.
APPALACHIAN HOUSING AND REDEVELOPMENT CORPORATION, 800 Avenue B, P.O. Box 1428, Rome, GA 30162-1428 Grant Type: Comprehensive. Amount Awarded: $38,077.04. | CEIBA HOUSING AND ECONOMIC DEVELOPMENT CORPORATION, Ave. Lauro Pinero 252, P.O. Box 203, Ceiba, PR 00735-0203 Grant Type: Comprehensive. Amount Awarded: $48,923.27.
B&D TRAINING SERVICES, 2952 Priscilla, Indianapolis, IN 46218 Grant Type: Comprehensive. Amount Awarded: $20,000.00. | CENTER FOR PAN ASIAN COMMUNITY SERVICES, INC., 3760 Park Avenue, Doraville, GA 30340 Grant Type: Comprehensive. Amount Awarded: $32,000.00.
CAMPBELLSVILLE HOUSING AND REDEVELOPMENT AUTHORITY, 400 Ingram Ave., P.O. Box 597, Campbellsville, KY 42718-1627 Grant Type: Comprehensive. Amount Awarded: $23,865.00. | CENTRAL FLORIDA COMMUNITY DEVELOPMENT CORPORATION, 847 Orange Avenue, P.O. Box 15065, Daytona Beach, FL 32114 Grant Type: Comprehensive. Amount Awarded: $34,461.63.
CAROLINA REGIONAL LEGAL SERVICES CORPORATION, 279 W. Evans Street, P.O. Box 479, Florence, SC 29503-0479 Grant Type: Comprehensive. Amount Awarded: $30,846.23. | CHOANOKE AREA DEVELOPMENT ASSOCIATION, 120 Sessoms Drive, Rich Square, NC 27869 Grant Type: Comprehensive. Amount Awarded: $67,000.31.
CCCS OF FORSYTH COUNTY, INC.—MAIN OFFICE, 8064 North Point Boulevard, Suite 204, Winston Salem, NC 27106 Grant Type: Comprehensive. Amount Awarded: $103,154.39. | CITIZENS FOR AFFORDABLE HOUSING, 295 Plus Park Blvd., Suite 105, Terrace I, Nashville, TN 37217 Grant Type: Comprehensive. Amount Awarded: $34,461.63.
CCCS OF WEST FL—MAIN OFFICE, 14 Palafox Place, P.O. Box 950, Pensacola, FL 32502 Grant Type: Comprehensive. Amount Awarded: $45,307.86. | CITY OF ALBANY, GEORGIA, 230 South Jackson St., Ste. 315, Albany, GA 31701 Grant Type: Comprehensive. Amount Awarded: $45,307.86.
CITY OF BLOOMINGTON, 401 N. Morton St., P.O. Box 100, Bloomington 47402, Bloomington, IN 47404-3729 Grant Type: Comprehensive. Amount Awarded: $36,503.00. | COMMUNITY AND ECONOMIC DEVELOPMENT ASSOCIATION OF COOK COUNTY INC., 208 S. LaSalle St., Ste. 1900, Chicago, IL 60604-1104 Grant Type: Comprehensive. Amount Awarded: $38,077.04.
COBB HOUSING, INCORPORATED, 268 Lawrence St., Suite 100-A, Marietta, GA 30060 Grant Type: Comprehensive. Amount Awarded: $20,000.00. | COMMUNITY INVESTMENT CORPORATION OF DECATUR, INC., 2121 S. Imboden Court, Decatur, IL 62521 Grant Type: Comprehensive. Amount Awarded: $35,000.00.
COMMUNITY ACTION AGENCY OF NORTHWEST ALABAMA, INC., 745 Thompson St., Florence, AL 35630-3867 Grant Type: Comprehensive. Amount Awarded: $35,000.00. | COMMUNITY SERVICE PROGRAMS OF WEST ALABAMA, INC., 601 17th St., Tuscaloosa, AL 35401-4807 Grant Type: Comprehensive. Amount Awarded: $30,846.23.
COMMUNITY ACTION PARTNERSHIP OF NORTH ALABAMA, INC., 1909 Central Parkway, SW., Decatur, AL 35601 Grant Type: Comprehensive. Amount Awarded: $30,846.23. | CONSUMER CREDIT COUNSELING SERVICE OF WNC, INC., 50 S. French Broad Ave., Ste. 227, Asheville, NC 28801-3217 Grant Type: Comprehensive. Amount Awarded: $70,000.00.
COOPERATIVE RESOURCE CENTER, INC., 191 Edgewood Avenue, Atlanta, GA 30303 Grant Type: Comprehensive. Amount Awarded: $27,230.82. | CORPORACION MILAGROS DEL AMOR, P.O. Box 6445, 78 Gautier Benitez Street, Caguas, PR 00726-6445 Grant Type: Comprehensive. Amount Awarded: $20,000.00.
CREDIT CARD MANAGEMENT SERVICES, INC., 4611 Okeechobee Boulevard, Suite 114, West Palm Beach, FL 33417 Grant Type: Comprehensive. Amount Awarded: $41,692.45. | CUMBERLAND COMMUNITY ACTION PROGRAM, INC., 316 Green Street, P.O. Box 2009, Zip 29302 (for P.O. box only), Fayetteville, NC 28302 Grant Type: Comprehensive. Amount Awarded: $45,000.00.
DU PAGE HOMEOWNERSHIP CENTER, INC., 1333 N. Main St., Wheaton, IL 60187-3579 Grant Type: Comprehensive. Amount Awarded: $65,000.00. | DURHAM REGIONAL FINANCIAL CENTER DBA DURHAM REGIONAL COMMUNITY DEVELOPMENT GROUP, 315 East Chapel Hill Street, Suite 304, Durham, NC 27701 Grant Type: Comprehensive. Amount Awarded: $35,000.00.
EAST ATHENS DEVELOPMENT CORPORATION, 410 McKinley Drive, Suite 101, Athens, GA 30601 Grant Type: Comprehensive. Amount Awarded: $41,692.45. | GOODWILL INDUSTRIES MANASOTA, INC., 1781 Dr. Martin Luther King Jr. Way, Sarasota, FL 34234 Grant Type: Comprehensive. Amount Awarded: $41,692.45.
ECONOMIC OPPORTUNITY FOR SAVANNAH CHATHAM COUNTY AREA, INC., 618 W. Anderson St., P.O. Box 1353, Savannah, GA 31415 Grant Type: Comprehensive. Amount Awarded: $70,615.72. | GREATER SOUTHWEST DEVELOPMENT CORPORATION, 6155 S. Pulaski, 2nd Floor, Chicago, IL 60629 Grant Type: Comprehensive. Amount Awarded: $55,000.00.
ELIZABETH CITY STATE UNIVERSITY, 1704 Weeksville Rd., Elizabeth City, NC 27909 Grant Type: Comprehensive. Amount Awarded: $64,513.00. | GREENSBORO HOUSING COALITION, 122 N. Elm Street, Suite M-6, Greensboro, NC 27401 Grant Type: Comprehensive. Amount Awarded: $36,297.00.
ELKHART HOUSING PARTNERSHIP, INC., 215 E. Indiana Avenue, P.O. Box 1772, Elkhart, IN 46516 Grant Type: Comprehensive. Amount Awarded: $28,000.00. | GREENVILLE COUNTY HUMAN RELATIONS COMMISSION, 301 University Ridge, Suite 1600, Greenville, SC 29601-3660 Grant Type: Comprehensive. Amount Awarded: $81,461.94.
FAMILY COUNSELING CENTER OF BREVARD, INC., 220 Coral Sands Dr., Rockledge, FL 32955-2702 Grant Type: Comprehensive. Amount Awarded: $45,307.86. | HANCOCK COMMUNITY DEVELOPMENT CORPORATION, 300 Henderson Ext., Athens, GA 30606 Grant Type: Comprehensive. Amount Awarded: $34,461.63.
FAMILY SERVICES CENTER, INC., 600 St. Clair Avenue, Building 3, Huntsville, AL 35801 Grant Type: Comprehensive. Amount Awarded: $23,615.41. | HAVEN ECONOMIC DEVELOPMENT INC., 12240 SW. 53rd Street, Bay 504, Cooper City, FL 33330 Grant Type: Comprehensive. Amount Awarded: $34,461.63.
FAMILY SERVICES, INC., 4925 Lacross St., Ste. 215, North Charleston, SC 29406 Grant Type: Comprehensive. Amount Awarded: $30,000.00. | HCP OF ILLINOIS, INC., 28 E. Jackson Blvd., #1109, Chicago, IL 60604 Grant Type: Comprehensive. Amount Awarded: $48,923.27.
GAP COMMUNITY DEVELOPMENT RESOURCES, INC., 129 West Fowlkes Street, Suite 137, Franklin, TN 37064 Grant Type: Comprehensive. Amount Awarded: $20,000.00. | HIGHLAND FAMILY RESOURCE CENTER, INC., 1305 N. Weldon Street, P.O. Box 806, Gastonia, NC 28053 Grant Type: Comprehensive. Amount Awarded: $40,000.00.
HOME DEVELOPMENT RESOURCES, INC. (FORMERLY GAINESVILLE-HALL COUNTY), 2380 Murphy Blvd., P.O. Box 642, Gainesville, GA 30503 Grant Type: Comprehensive. Amount Awarded: $38,077.04. | HOUSING AUTHORITY OF THE CITY OF HIGH POINT, 500 E. Russell Avenue, P.O. Box 1779, High Point, NC 27260-1779 Grant Type: Comprehensive. Amount Awarded: $85,077.35.
HOMES IN PARTNERSHIP, INCORPORATED, 235 E. 5th St., P.O. Box 761, Apopka, FL 32703-5315 Grant Type: Comprehensive. Amount Awarded: $30,846.23. | HOUSING AUTHORITY OF THE COUNTY LAKE, 33928 North Route 45, Grayslake, IL 60030 Grant Type: Comprehensive. Amount Awarded: $27,000.00.
HOOSIER UPLANDS ECONOMIC DEVELOPMENT CORPORATION, 521 W. Main St., P.O. Box 9, Mitchell, IN 47446-1410 Grant Type: Comprehensive. Amount Awarded: $25,000.00 | HOUSING AUTHORITY, CITY OF ELKHART, 1396 Benham Ave., Elkhart, IN 46516-3341 Grant Type: Comprehensive. Amount Awarded: $26,236.00.
HOPE OF EVANSVILLE, INC., 608 Cherry St., Evansville, IN 47713-1808 Grant Type: Comprehensive. Amount Awarded: $34,000.00. | HOUSING EDUCATION AND ECONOMIC DEVELOPMENT, INC., 3405 Medgar Evers Blvd., P.O. Box 11853, Jackson, MS 39213-6360 Grant Type: Comprehensive. Amount Awarded: $50,000.00.
HOUSING ASSISTANCE AND DEVELOPMENT SERVICES, INC., 1135 Adams Street, P.O. Box 9637, Bowling Green, KY 42102-9637 Grant Type: Comprehensive. Amount Awarded: $20,000.00. | HOUSING OPPORTUNITIES, INC., 2801 Evans Avenue, Valparaiso, IN 46383 Grant Type: Comprehensive. Amount Awarded: $20,000.00.
HOUSING AUTHORITY OF THE CITY OF FORT WAYNE, INDIANA, 2025 S. Anthony Blvd., P.O. Box 13489, Fort Wayne, IN 46869 Grant Type: Comprehensive. Amount Awarded: $46,500.00. | HOUSING OPPORTUNITY DEVELOPMENT, 1000 Skokie Boulevard, Suite 500, Wilmette, IL 60091 Grant Type: Comprehensive. Amount Awarded: $35,000.00.
HOUSING AUTHORITY OF THE CITY OF HAMMOND, 1402 173rd Street, Hammond, IN 46324-2831 Grant Type: Comprehensive. Amount Awarded: $34,461.63. | HOUSING PARTNERSHIP, INC., 2001 W. Blue Heron Blvd., Riviera Beach, FL 33404 Grant Type: Comprehensive. Amount Awarded: $27,230.82.
JACKSONVILLE AREA LEGAL AID, INC., 126 W. Adams Street, Jacksonville, FL 32202-3849 Grant Type: Comprehensive. Amount Awarded: $34,461.63. | MACON MIDDLE GEORGIA HOUSING COUNSELING CENTER, 682 Cherry Street, Suite 103, Macon, GA 31201 Grant Type: Comprehensive. Amount Awarded: $48,923.27.
JCVISION AND ASSOCIATES, INC., 135 G East Martin Luther King Dr., P.O Box 1972, Hinesville, GA 31313 Grant Type: Comprehensive. Amount Awarded: $67,000.31. | MANATEE OPPORTUNITY COUNCIL, INCORPORATED, 302 Manatee Avenue E., Suite 150, Bradenton, FL 34208 Grant Type: Comprehensive. Amount Awarded: $42,000.00.
JEFFERSON COUNTY COMMITTEE FOR ECONOMIC OPPORTUNITY, 300 Eighth Avenue, West Birmingham, AL 35204-3039 Grant Type: Comprehensive. Amount Awarded: $20,000.00. | MIAMI-DADE AFFORDABLE HOUSING FOUNDATION, INC., 19 West Flagler Street, Suite 311, Miami, FL 33130 Grant Type: Comprehensive. Amount Awarded: $20,000.00.
JOHNSTON-LEE-HARNETT COMMUNITY ACTION, INC., 1102 Massey Street, P.O. Drawer 711, Smithfield, NC 27577-0711 Grant Type: Comprehensive. Amount Awarded: $20,000.00. | MID-FLORIDA HOUSING PARTNERSHIP, INC., 1834 Mason Avenue, Daytona Beach, FL 32117 Grant Type: Comprehensive. Amount Awarded: $45,307.86.
LATIN AMERICAN ASSOCIATION, 2750 Buford Highway, Atlanta, GA 30324 Grant Type: Comprehensive. Amount Awarded: $45,000.00. | MIDDLE GEORGIA COMMUNITY ACTION AGENCY, INC., 121 Prince Street, P.O. Box 2286, Warner Robins, GA 31099 Grant Type: Comprehensive. Amount Awarded: $56,154.08.
MONROE-UNION COUNTY COMMUNITY DEVELOPMENT CORPORATION, 349 East Franklin Street, P.O. Box 887, Monroe, NC 28112 Grant Type: Comprehensive. Amount Awarded: $40,000.00. | MOBILE HOUSING BOARD, 1555-B Eagle Drive, Mobile, AL 36605 Grant Type: Comprehensive. Amount Awarded: $45,307.86.
LATIN UNITED COMMUNITY HOUSING ASSOCIATION, 3541 West North Avenue, Chicago, IL 60647 Grant Type: Comprehensive. Amount Awarded: $67,000.31. | MOMENTIVE CONSUMER CREDIT COUNSELING SERVICE, 615 N. Alabama Street, Suite 134, Indianapolis, IN 46204-1477 Grant Type: Comprehensive. Amount Awarded: $52,538.68.
LINCOLN HILLS DEVELOPMENT CORPORATION, 302 Main St., P.O. Box 336, Tell City, IN 47586-0336 Grant Type: Comprehensive. Amount Awarded: $23,550.00. | OPA-LOCKA COMMUNITY DEVELOPMENT CORPORATION, 490 Opa-Locka Boulevard, Suite 20, Opa-Locka, FL 33054 Grant Type: Comprehensive. Amount Awarded: $20,000.00.
MONROE-UNION COUNTY COMMUNITY DEVELOPMENT CORPORATION, 349 East Franklin Street, P.O. Box 887, Monroe, NC 28112 Grant Type: Comprehensive. Amount Awarded: $40,000.00. |
MUNCIE HOME OWNERSHIP AND DEVELOPMENT CENTER, 407 S. Walnut St., Muncie, IN 47305 Grant Type: Comprehensive. Amount Awarded: $41,692.45. | ORGANIZED COMMUNITY ACTION PROGRAMS, INC., 507 North Three Notch Street, P.O. Box 908, Troy, AL 36081-0908 Grant Type: Comprehensive. Amount Awarded: $30,000.00.
NEIGHBORWORKS COLUMBUS (FORMERLY KNOWN AS COLUMBUS HOUSING INITIATIVE, INC.), 18 11th Street, Columbus, GA 31901 Grant Type: Comprehensive. Amount Awarded: $27,230.82. | OUTER BANKS COMMUNITY DEVELOPMENT CORPORATION, 115 Mustian Street, P.O. Box 2467, Kill Devil Hills, NC 27948 Grant Type: Comprehensive. Amount Awarded: $27,230.82.
NORTHEASTERN COMMUNITY DEVELOPMENT CORPORATION, 154 Highway 158 East, P.O. Box 367, Camden, NC 27921-0367 Grant Type: Comprehensive. Amount Awarded: $95,923.58. | PROSPERITY UNLIMITED, INC., 1660 Garnet Street, Kannapolis, NC 28083 Grant Type: Comprehensive. Amount Awarded: $85,077.35.
NORTHWESTERN REGIONAL HOUSING AUTHORITY, 869 Highway 105 Ext., Ste. 10, P.O. Box 2510, Boone, NC 28607-2510 Grant Type: Comprehensive. Amount Awarded: $49,288.00. | PURCHASE AREA HOUSING CORPORATION, 1002 Medical Dr., P.O. Box 588, Mayfield, KY 42066-0588 Grant Type: Comprehensive. Amount Awarded: $30,000.00.
OCALA HOUSING AUTHORITY, 1629 Northwest 4th Street, Ocala, FL 34475 Grant Type: Comprehensive. Amount Awarded: $40,000.00. | REDEMPTION MINISTRIES, INC., 109 Industrial Boulevard, P.O. Box 1893, Thomasville, GA 31799 Grant Type: Comprehensive. Amount Awarded: $20,000.00.
OLIVE HILL COMMUNITY ECOMONIC DEVELOPMENT CORPORATION, 301 East Meeting St., Second Floor, P.O. Box 4008, Morganton, NC 28680-4008 Grant Type: Comprehensive. Amount Awarded: $74,231.13. | RIVER CITY COMMUNITY DEVELOPMENT CORPORATION, 501 East Main St., Elizabeth City, NC 27909 Grant Type: Comprehensive. Amount Awarded: $70,000.00.
ROCKY MOUNT/EDGECOMBE CDC, 148 S. Washington Street, Suite 103, Harambe Square, Rocky Mount, NC 27802 Grant Type: Comprehensive. Amount Awarded: $40,000.00. | TALLAHASSEE LENDERS CONSORTIUM, INC., 833 East Park Avenue, Tallahassee, FL 32301 Grant Type: Comprehensive. Amount Awarded: $52,000.00.
ROGERS PARK COMMUNITY DEVELOPMENT CORPORATION, 1530 West Morse Avenue, Chicago, IL 60626 Grant Type: Comprehensive. Amount Awarded: $48,923.27. | TALLAHASSEE URBAN LEAGUE, INC., 923 Old Bainbridge Road, Tallahassee, FL 32303-6042 Grant Type: Comprehensive. Amount Awarded: $52,538.68.
SACRED HEART SOUTHERN MISSIONS HOUSING CORPORATION, 9260 McLemore Drive, P.O. Box 365, Walls, MS 38680-0365 Grant Type: Comprehensive. Amount Awarded: $27,230.82. | TAMPA HOUSING AUTHORITY, 1803 North Howard Avenue, Tampa, FL 33607 Grant Type: Comprehensive. Amount Awarded: $34,461.63.
SANDHILLS COMMUNITY ACTION PROGRAM, INC., 103 Saunders St., P.O. Box 937, Carthage, NC 28327-0937 Grant Type: Comprehensive. Amount Awarded: $35,135.00. | THE CENTER FOR AFFORDABLE HOUSING, INC., 2524 S. Park Drive, Sanford, FL 32773 Grant Type: Comprehensive. Amount Awarded: $41,692.45.
SOUTH SUBURBAN HOUSING CENTER, 18220 Harwood Avenue, Suite 1, Homewood, IL 60430 Grant Type: Comprehensive. Amount Awarded: $40,000.00. | THE HOUSING CORPORATION, 1620 Tamiami Trail, Suite 103, The City Center, Port Charlotte, FL 33948 Grant Type: Comprehensive. Amount Awarded: $23,615.41.
SOUTHERN INDIANA HOMEOWNERSHIP INC., 4367 N. Purdue Rd., Vincennes, IN 47591 Grant Type: Comprehensive. Amount Awarded: $20,000.00. | TOTALLY FREE, INC., 2517 Norwich Street, Brunswick, GA 31520 Grant Type: Comprehensive. Amount Awarded: $45,000.00.
ST. PETERSBURG NEIGHBORHOOD HOUSING SERVICES, INC., 1600 Martin L. King Street S., St. Petersburg, FL 33701 Grant Type: Comprehensive. Amount Awarded: $48,923.27. | VOLLINTINE EVERGREEN COMMUNITY ASSOCIATION CDC, 1680 Jackson Ave., Memphis, TN 38107-5044 Grant Type: Comprehensive. Amount Awarded: $38,077.04.
STATESVILLE HOUSING AUTHORITY, 110 West Allison Street, Statesville, NC 28677 Grant Type: Comprehensive. Amount Awarded: $49,058.00. | WESTERN PIEDMONT COUNCIL OF GOVERNMENTS, 736 4th Street, South-West, P.O. Box 9026, Hickory, NC 28602 Grant Type: Comprehensive. Amount Awarded: $36,000.00.
TSP-HOPE, INC., 1507 East Cook Street, P.O. Box 6091, Springfield, IL 62708-6091 Grant Type: Comprehensive. Amount Awarded: $30,846.23. | WILL COUNTY CENTER FOR COMMUNITY CONCERNS, 304 N. Scott Street, Joliet, IL 60432 Grant Type: Comprehensive. Amount Awarded: $35,000.00.
TRIDENT UNITED WAY, 6296 Rivers Avenue, P.O. Box 63305, North Charleston, SC 29419 Grant Type: Comprehensive. Amount Awarded: $56,154.08. | WILSON COMMUNITY IMPROVEMENT ASSOCIATION, INC., 504 E. Green St., Wilson, NC 27893 Grant Type: Comprehensive. Amount Awarded: $44,550.00.
TWIN RIVERS OPPORTUNITIES, INC., 318 Craven St., P.O. Box 1482, New Bern, NC 28563 Grant Type: Comprehensive. Amount Awarded: $46,000.00. | WOODBINE COMMUNITY ORGANIZATION, 222 Oriel Ave., Nashville, TN 37210 Grant Type: Comprehensive. Amount Awarded: $27,230.82.
UNIVERSITY OF GEORGIA FAMILY AND CONSUMER SCIENCES COOPERATIVE EXTENSION SERVICE (MAIN OFFICE), 555 Monroe Street, Unit 50, Box 13, Clarkesville, GA 30523 Grant Type: Comprehensive. Amount Awarded: $23,615.41.
Denver (LHCA-COMP)
ADAMS COUNTY HOUSING AUTHORITY, 7190 Colorado Blvd., 6th Fl., Commerce City, CO 80022-1812 Grant Type: Comprehensive. Amount Awarded: $74,231.13. | CARVER COUNTY CDA, 705 Walnut Street, Chaska, MN 55318 Grant Type: Comprehensive. Amount Awarded: $56,154.08.
ANOKA COUNTY COMMUNITY ACTION PROGRAM, INC., 1201 89th Ave., NE, Ste. 345, Blaine, MN 55434-3373 Grant Type: Comprehensive. Amount Awarded: $45,307.86. | CATHOLIC CHARITIES DIOCESE OF ST. CLOUD, 157 Roosevelt Rd #200, Saint Cloud, MN 56301 Grant Type: Comprehensive. Amount Awarded: $50,000.00.
ARROWHEAD ECONOMIC OPPORTUNITY AGENCY, INC., 702 Third Avenue South, Virginia, MN 55792-2797 Grant Type: Comprehensive. Amount Awarded: $38,077.04. | CENTER FOR SIOUXLAND, 715 Douglas St., Sioux City, IA 51101-1208 Grant Type: Comprehensive. Amount Awarded: $50,000.00.
AUSTIN TENANTS' COUNCIL, 1640-B E. Second St., Suite 150, Austin, TX 78702-4455 Grant Type: Comprehensive. Amount Awarded: $45,307.86. | CITY OF FORT WORTH HOUSING DEPARTMENT, 1000 Throckmorton St., Fort Worth, TX 76102 Grant Type: Comprehensive. Amount Awarded: $59,769.49.
AVENUE COMMUNITY DEVELOPMENT CORPORATION, 2505 Washington Ave., Suite 400, Houston, TX 77007 Grant Type: Comprehensive. Amount Awarded: $43,000.00. | CITY OF SAN ANTONIO/COMMUNITY INITIATIVES DEPARTMENT, 1325 N. Flores, Ste. 114, P.O. Box 839966, San Antonio, TX 78205 Grant Type: Comprehensive. Amount Awarded: $70,615.72.
BOULDER COUNTY HOUSING AUTHORITY, 3482 North Broadway, Sundquist Bldg., Boulder, CO 80304 Grant Type: Comprehensive. Amount Awarded: $52,538.68. | COLORADO HOUSING ASSISTANCE CORPORATION, 670 Santa Fe Drive, Denver, CO 80204 Grant Type: Comprehensive. Amount Awarded: $20,000.00.
BROTHERS REDEVELOPMENT, INC., 2250 Eaton St., Garden Level, Denver, CO 80214-1210 Grant Type: Comprehensive. Amount Awarded: $45,307.86. | COLORADO RURAL HOUSING DEVELOPMENT CORP., 3621 West 73rd Avenue, Suite C, Westminster, CO 80030 Grant Type: Comprehensive. Amount Awarded: $38,077.04.
COMMUNITY ACTION AGENCY OF OKLAHOMA CITY AND OKLAHOMA/CANADIAN COUNTIES, INC., 319 SW 25th Street, Oklahoma City, OK 73109 Grant Type: Comprehensive. Amount Awarded: $50,000.00. | COMMUNITY SERVICES LEAGUE, 300 W. Maple Ave., Independence, MO 64050-2818 Grant Type: Comprehensive. Amount Awarded: $30,846.23.
COMMUNITY ACTION DULUTH, 19 N. 21st Avenue West, Duluth, MN 55806 Grant Type: Comprehensive. Amount Awarded: $20,000.00. | CONSUMER CREDIT COUNSELING SERVICE OF CENTRAL OKLAHOMA, 3230 N. Rockwell Avenue, Bethany, OK 73008 Grant Type: Comprehensive. Amount Awarded: $52,538.68.
COMMUNITY ACTION PARTNERSHIP OF SUBURBAN HENNEPIN, 33 10th Ave. South, Suite 150, Hopkins, MN 55343-1303 Grant Type: Comprehensive. Amount Awarded: $34,461.63. | CONSUMER CREDIT COUNSELING SERVICE, INC., 1201 W. Walnut St., P.O. Box 843, Salina, KS 67402-0843 Grant Type: Comprehensive. Amount Awarded: $63,384.90.
COMMUNITY ACTION PROJECT OF TULSA, 4606 South Garnett Road, Suite 100, Tulsa, OK 74146 Grant Type: Comprehensive. Amount Awarded: $41,692.45. | CRAWFORD SEBASTIAN COMMUNITY DEVELOPMENT COUNCIL, 4831 Armour St., P.O. Box 4069, Fort Smith, AR 72914 Grant Type: Comprehensive. Amount Awarded: $27,230.82.
COMMUNITY ACTION SERVICES, 815 South Freedom Blvd., Suite 100, Provo, UT 84601 Grant Type: Comprehensive. Amount Awarded: $67,000.31. | CREDIT ADVISORS FOUNDATION, 1818 S. 72nd Street, Omaha, NE 68124 Grant Type: Comprehensive. Amount Awarded: $74,231.13.
COMMUNITY ACTION, INCORPORATED OF ROCK AND WALWORTH COUNTIES, 200 W. Milwaukee Street, Janesville, WI 53548 Grant Type: Comprehensive. Amount Awarded: $25,000.00. | DAKOTA COUNTY COMMUNITY DEVELOPMENT AGENCY, 1228 Town Centre Drive, Eagan, MN 55123 Grant Type: Comprehensive. Amount Awarded: $38,077.04.
COMMUNITY DEVELOPMENT CORPORATION OF BROWNSVILLE, 901 East Levee Street, Brownsville, TX 78520-5804 Grant Type: Comprehensive. Amount Awarded: $30,846.23. | ECONOMIC OPPORTUNITY AGENCY OF WASHINGTON COUNTY, 614 E. Emma, Suite M401, Springdale, AR 72764 Grant Type: Comprehensive. Amount Awarded: $27,230.82.
COMMUNITY DEVELOPMENT SUPPORT ASSOCIATION, 2615 E. Randolph, Enid, OK 73701 Grant Type: Comprehensive. Amount Awarded: $30,000.00. | HOUSING AUTHORITY OF THE CITY OF NORMAN, 700 North Berry Road, Norman, OK 73069 Grant Type: Comprehensive. Amount Awarded: $41,692.45.
EL PASO COMMUNITY ACTION PROGRAM, PROJECT BRAVO, INC., 4838 Montana Ave., El Paso, TX 79903 Grant Type: Comprehensive. Amount Awarded: $20,000.00. | HOUSING AUTHORITY OF THE CITY OF SHAWNEE, 601 West 7th Street, P.O. Box 3427, Shawnee, OK 74802-3427 Grant Type: Comprehensive. Amount Awarded: $52,000.00.
FAMILY HOUSING ADVISORY SERVICES, INC., 2401 Lake Street, Omaha, NE 68111 Grant Type: Comprehensive. Amount Awarded: $74,231.13. | HOUSING OPTIONS PROVIDED FOR THE ELDERLY, 4265 Shaw Blvd., St. Louis, MO 63110-3526 Grant Type: Comprehensive. Amount Awarded: $63,384.90.
FAMILY MANAGEMENT CREDIT COUNSELORS, INC., 1409 W. 4th St., Waterloo, IA 50702-2907 Grant Type: Comprehensive. Amount Awarded: $50,000.00. | HOUSING PARTNERS OF TULSA, INCORPORATED, 415 E. Independence, P.O. Box 6369, Tulsa, OK 74106 Grant Type: Comprehensive. Amount Awarded: $30,846.23.
HIGH PLAINS COMMUNITY DEVELOPMENT, CORP., 130 E. 2nd Street, Chadron, NE 69337 Grant Type: Comprehensive. Amount Awarded: $70,615.72. | HOUSING SOLUTIONS FOR THE SOUTHWEST, 295 Girard St., Durango, CO 81303 Grant Type: Comprehensive. Amount Awarded: $58,807.00.
HOME OPPORTUNITIES MADE EASY, INC. (HOME, INC.), 1111 Ninth Street, Suite 210, Des Moines, IA 50314 Grant Type: Comprehensive. Amount Awarded: $53,241.00. | HUMAN RESOURCE DEVELOPMENT COUNCIL OF DISTRICT IX, INC., 32 S. Tracy Avenue, Bozeman, MT 59715 Grant Type: Comprehensive. Amount Awarded: $67,000.31.
HOUSING AND CREDIT COUNSELING, INCORPORATED, 1195 SW Buchanan St., Ste. 101, Topeka, KS 66604-1183 Grant Type: Comprehensive. Amount Awarded: $52,538.68. | INTERFAITH OF NATRONA COUNTY, INCORPORATED, 1514 East 12th Street, #303, Casper, WY 82601 Grant Type: Comprehensive. Amount Awarded: $40,000.00.
IOWA CITIZENS FOR COMMUNITY IMPROVEMENT, 2005 Forest Avenue, Des Moines, IA 50311 Grant Type: Comprehensive. Amount Awarded: $23,615.41. | LEGAL AID OF WESTERN MISSOURI, 1125 Grand Boulevard, Suite 2000, Kansas City, MO 64106 Grant Type: Comprehensive. Amount Awarded: $70,615.72.
JEFFERSON COMMUNITY ACTION PROGRAM, 1221 Elmwood Park Blvd., Ste. 402, Jefferson, LA 70123 Grant Type: Comprehensive. Amount Awarded: $49,929.00.
LEGAL SERVICES OF EASTERN MISSOURI, INCORPORATION, 4232 Forest Park Ave., St. Louis, MO 63108-2811 Grant Type: Comprehensive. Amount Awarded: $77,846.53.
JONESBORO URBAN RENEWAL AND HOUSING AUTHORITY HOUSING AND COMMUNITY DEVELOPMENT ORGANIZATION (JURHA HCDO), 330 Union Street, Jonesboro, AR 72401 Grant Type: Comprehensive. Amount Awarded: $45,307.86. | NEIGHBOR TO NEIGHBOR, 1550 Blue Spruce Drive, Fort Collins, CO 80524 Grant Type: Comprehensive. Amount Awarded: $46,743.00.
JUSTINE PETERSEN HOUSING AND REINVESTMENT CORP., 5031 Northrup Ave., St. Louis, MO 63110 Grant Type: Comprehensive. Amount Awarded: $70,615.72. | NORTHEAST DENVER HOUSING CENTER, 1735 Gaylord St., Denver, CO 80206-1208 Grant Type: Comprehensive. Amount Awarded: $20,000.00.
KI BOIS COMMUNITY ACTION FOUNDATION, INCORPORATED, 301 E. Main, P.O. Box 727, Stigler, OK 74462 Grant Type: Comprehensive. Amount Awarded: $34,461.63. | OGLALA SIOUX TRIBE PARTNERSHIP FOR HOUSING, INC., Old Ambulance Building, P.O. Box 3001, Pine Ridge, SD 57770 Grant Type: Comprehensive. Amount Awarded: $59,769.49.
LAKE COUNTY COMMUNITY HOUSING ORGANIZATION AN, 407 Main Street, SW, P.O. Box 146, Ronan, MT 59864 Grant Type: Comprehensive. Amount Awarded: $25,000.00. | PARTNERS IN HOUSING, INC., 455 Gold Pass Heights, Colorado Springs, CO 80906 Grant Type: Comprehensive. Amount Awarded: $34,000.00.
SAINT PAUL DEPARTMENT OF PLANNING AND ECONOMIC DEV., 25 West 4th Street, Suite 1200, St. Paul, MN 55102-1634 Grant Type: Comprehensive. Amount Awarded: $63,384.90. | STILLWATER HOUSING AUTHORITY, 807 S. Lowry, Stillwater, OK 74074 Grant Type: Comprehensive. Amount Awarded: $35,000.00.
SAINT PAUL URBAN LEAGUE, 401 Selby Ave., St. Paul, MN 55102-1724 Grant Type: Comprehensive. Amount Awarded: $30,000.00. | TEXAS RIO GRANDE LEGAL AID, 300 S. Texas Blvd., Weslaco, TX 78596 Grant Type: Comprehensive. Amount Awarded: $74,231.13.
SALT LAKE COMMUNITY ACTION PROGRAM, 764 S. 200 W., Salt Lake City, UT 84101-2710 Grant Type: Comprehensive. Amount Awarded: $20,000.00. | TIERRA DEL SOL HOUSING CORPORATION, P.O. Box 2626, 880 Anthony Dr., Anthony, NM 88021 Grant Type: Comprehensive. Amount Awarded: $59,769.40.
SCI-TECH DEVELOPMENT, INC. (SDI), 5401 North 76th Street, Suite 103, Milwaukee, WI 53218 Grant Type: Comprehensive. Amount Awarded: $38,077.04. | TRI-COUNTY ACTION PROGRAM, INCORPORATED, 700 W. Saint Germain St., Saint Cloud, MN 56301-3507 Grant Type: Comprehensive. Amount Awarded: $50,000.00.
SOUTH ARKANSAS COMMUNITY DEVELOPMENT, 406 Clay Street, Arkadelphia, AR 71923 Grant Type: Comprehensive. Amount Awarded: $39,900.00. | UNITED CEREBRAL PALSY OF GREATER HOUSTON, INC., 4500 Bissonnet, Suite 340, Bellaire, TX 77401 Grant Type: Comprehensive. Amount Awarded: $20,000.00.
SOUTHEASTERN NORTH DAKOTA COMMUNITY ACTION AG, 3233 S. University Dr., Fargo, ND 58104-6221 Grant Type: Comprehensive. Amount Awarded: $20,000.00. | UNITED NEIGHBORS, INC., 808 Harrison Street, Davenport, IA 52803 Grant Type: Comprehensive. Amount Awarded: $56,266.00.
SOUTHERN MINNESOTA REGIONAL LEGAL SERVICES, INC., 166 E. 4th St., Suite 200, St. Paul, MN 55101 Grant Type: Comprehensive. Amount Awarded: $56,154.08. | UNIVERSAL HOUSING DEVELOPMENT CORPORATION, 301 E. 3rd St., P.O. Box 846, Russellville, AR 72811-5109 Grant Type: Comprehensive. Amount Awarded: $63,384.90.
UTAH STATE UNIVERSITY—FAMILY LIFE CENTER HOUSING AND FINANCIAL COUNSELING SERVICES, 493 N. 700 E., Logan, UT 84321 Grant Type: Comprehensive. Amount Awarded: $30,846.23. | WEST CENTRAL MISSOURI COMMUNITY ACTION AGENCY, 106 W. 4th St., P.O. Box 125, Appleton City, MO 64724 Grant Type: Comprehensive. Amount Awarded: $56,154.08.
WEST CENTRAL WISCONSIN COMMUNITY ACTION AGENCY, INC., 525 Second Street, P.O. Box 308, Glenwood City, WI 54751 Grant Type: Comprehensive. Amount Awarded: $27,230.82. | YOUR COMMUNITY CONNECTION, 2261 Adams Ave., Ogden, UT 84401-1510 Grant Type: Comprehensive. Amount Awarded: $27,603.00.
YOUTH EDUCATION AND HEALTH IN SOULARD, 1919 South Broadway, St. Louis, MO 63104 Grant Type: Comprehensive. Amount Awarded: $35,000.00.
Philadelphia (LHCA-COMP)
ACCOMACK-NORTHAMPTON PLANNING DISTRICT COMMISSION, 23372 Front Street, P.O. Box 417, Accomack, VA 23301 Grant Type: Comprehensive. Amount Awarded: $27,230.82. | ASIAN AMERICANS FOR EQUALITY, 111 Division St., New York, NY 10002 Grant Type: Comprehensive. Amount Awarded: $38,077.04.
AFFORDABLE HOMES OF MILLVILLE ECUMENICAL, 400 East Main St., P.O. Box 241, Millville, NJ 08332 Grant Type: Comprehensive. Amount Awarded: $23,615.41. | BELMONT SHELTER CORPORATION, 1195 Main Street, Buffalo, NY 14209-2196 Grant Type: Comprehensive. Amount Awarded: $50,000.00.
ALBANY COUNTY RURAL HOUSING ALLIANCE, INC., 24 Martin Road, P.O. Box 407, Voorheesville, NY 12186 Grant Type: Comprehensive. Amount Awarded: $67,000.31. | BERKSHIRE COUNTY REGIONAL HOUSING AUTHORITY-H, 150 North Street, Suite 28, Pittsfield, MA 01201 Grant Type: Comprehensive. Amount Awarded: $40,000.00.
ALLEGANY COUNTY COMMUNITY OPPORTUNITIES AND RURAL DEVELOPMENT (ACCORD) CORP., 84 Schuyler Street, P.O. Box 573, Belmont, NY 14813-1051 Grant Type: Comprehensive. Amount Awarded: $30,846.23. | BETTER NEIGHBORHOODS, INCORPORATED, 986 Albany St., Schenectady, NY 12307 Grant Type: Comprehensive. Amount Awarded: $51,897.00.
ANNE ARUNDEL COUNTY ECONOMIC OPPORTUNITY COMM., 251 West St., P.O. Box 1951, Annapolis, MD 21404 Grant Type: Comprehensive. Amount Awarded: $20,000.00. | BISHOP SHEEN ECUMENICAL HOUSING FOUNDATION, 935 East Ave., Suite 300, Rochester, NY 14607-2216 Grant Type: Comprehensive. Amount Awarded: $34,461.63.
ARUNDEL COMMUNITY DEVELOPMENT SERVICE INC., 2666 Riva Road, Suite 210, Annapolis, MD 21401 Grant Type: Comprehensive. Amount Awarded: $34,461.63. | BLAIR COUNTY COMMUNITY ACTION AGENCY, 2100 Sixth Avenue, Altoona, PA 16602 Grant Type: Comprehensive. Amount Awarded: $50,506.00.
BURLINGTON COUNTY COMMUNITY ACTION PROGRAM, One Van Sciver Parkway, Willingboro, NJ 08046 Grant Type: Comprehensive. Amount Awarded: $38,700.00. | CHILDREN'S & FAMILY SERVICE A/K/A FAMILY SERVICE AGENCY, 535 Marmion Avenue, Youngstown, OH 44502-2323 Grant Type: Comprehensive. Amount Awarded: $23,158.00.
CECIL COUNTY HOUSING AGENCY, 5 Brown Court, Elkton, MD 21921 Grant Type: Comprehensive. Amount Awarded: $28,520.00. | CHRISTIAN CREDIT COUNSELORS, INC., 24300 Southfield Road, Ste. 215, Southfield, MI 48075 Grant Type: Comprehensive. Amount Awarded: $23,615.41.
CENTER FOR FAMILY SERVICES, INCORPORATED, 213 W. Center Street, Meadville, PA 16335-3406 Grant Type: Comprehensive. Amount Awarded: $34,461.63. | COMMISSION ON ECONOMIC OPPORTUNITY OF LUZERNE, 165 Amber Lane, P.O. Box 1127, Wilkes Barre, PA 18703-1127 Grant Type: Comprehensive. Amount Awarded: $34,461.63.
CENTRAL VERMONT COMMUNITY ACTION COUNCIL, INC., 195 U.S. Route 302—Berlin, Barre, VT 05641 Grant Type: Comprehensive. Amount Awarded: $50,000.00. | COMMUNITY ACTION AGENCY, 1214 Greenwood Avenue, Jackson, MI 48203 Grant Type: Comprehensive. Amount Awarded: $27,230.82.
CHAUTAUQUA OPPORTUNITIES, INCORPORATED, 17 W. Courtney St., Dunkirk, NY 14048-2754 Grant Type: Comprehensive. Amount Awarded: $50,000.00. | COMMUNITY ACTION COMMISSION OF BELMONT COUNTY, 153½ W. Main Street, Saint Clairsville, OH 43950 Grant Type: Comprehensive. Amount Awarded: $38,077.04.
CHESTER COMMUNITY IMPROVEMENT PROJECT, 412 Avenue of the States, P.O. BOX 541, Chester, PA 19013-0541 Grant Type: Comprehensive. Amount Awarded: $38,077.04. | COMMUNITY ACTION COMMITTEE OF LEHIGH VALLEY, INC., 1337 E. 5th Street, Bethlehem, PA 18015 Grant Type: Comprehensive. Amount Awarded: $27,230.82.
COMMUNITY ACTION IN SELF HELP, INCORPORATED, 48 Water St., Lyons, NY 14489-1244 Grant Type: Comprehensive. Amount Awarded: $36,500.00. | COMMUNITY SERVICE NETWORK, INC., 52 Broadway, Stoneham, MA 02180-1003 Grant Type: Comprehensive. Amount Awarded: $23,615.41.
COMMUNITY ACTION COMMISSION OF BELMONT COUNTY, 153½ W. Main Street, Saint Clairsville, OH 43950 Grant Type: Comprehensive. Amount Awarded: $38,077.04. | COMMUNITY UNIFIED TODAY, INCORPORATED, 152 Genesee Street, P.O. Box 268, Geneva, NY 14456 Grant Type: Comprehensive. Amount Awarded: $20,000.00.
COMMUNITY ACTION COMMITTEE OF LEHIGH VALLEY, INC., 1337 E. 5th Street, Bethlehem, PA 18015 Grant Type: Comprehensive. Amount Awarded: $27,230.82. | CONCORD AREA TRUST FOR COMMUNITY HOUSING (CATCH), 79 South State Street, Concord, NH 03301 Grant Type: Comprehensive. Amount Awarded: $50,000.00.
COMMUNITY ACTION IN SELF HELP, INCORPORATED, 48 Water St., Lyons, NY 14489-1244 Grant Type: Comprehensive. Amount Awarded: $36,500.00. | CONSUMER CREDIT AND BUDGET COUNSELING, 299 S. Shore Road, Route 9 South, Marmora, NJ 08223-0866 Grant Type: Comprehensive. Amount Awarded: $48,923.27.
COMMUNITY ACTION PROGRAM FOR MADISON COUNTY, 3 East Main Street, P.O. Box 249, Morrisville, NY 13408 Grant Type: Comprehensive. Amount Awarded: $37,500.00. | CORTLAND HOUSING ASSISTANCE COUNCIL, INCORPORATED, 159 Main St., Cortland, NY 13045 Grant Type: Comprehensive. Amount Awarded: $20,000.00.
COMMUNITY ASSISTANCE NETWORK, 7701 Dunmanway, Baltimore, MD 21222-5437 Grant Type: Comprehensive. Amount Awarded: $40,000.00. | COUNTY OF NASSAU ECONOMIC DEVELOPMENT—OFFICE OF HOUSING & INTERGOVERNMENTAL AFFAIRS, 40 Main Street, Suite B, Hempstead, NY 11550 Grant Type: Comprehensive. Amount Awarded: $20,000.00.
COMMUNITY HOUSING SOLUTIONS, 12114 Larchmere Blvd., Cleveland, OH 44120 Grant Type: Comprehensive. Amount Awarded: $34,461.63. | DETROIT NON-PROFIT HOUSING CORPORATION, 8904 Woodward Ave., Suite 279, Considine Center, Detroit, MI 48202 Grant Type: Comprehensive. Amount Awarded: $59,769.49.
FAIR HOUSING CONTACT SERVICE, 441 Wolf Ledges Pkwy., Ste. 200, Akron, OH 44311 Grant Type: Comprehensive. Amount Awarded: $50,000.00. | GARRETT COUNTY COMMUNITY ACTION COMMITTEE, INC., 104 E. Center Street, Oakland, MD 21550-1328 Grant Type: Comprehensive. Amount Awarded: $67,000.31.
FAIR HOUSING COUNCIL OF NORTHERN NEW JERSEY, 131 Main St., Suite 140, Hackensack, NJ 07601-7140 Grant Type: Comprehensive. Amount Awarded: $41,692.45. | GRAND RAPIDS URBAN LEAGUE, 745 Eastern Ave., SE., Grand Rapids, MI 49503-5544 Grant Type: Comprehensive. Amount Awarded: $44,330.00.
FAIR HOUSING RESOURCE CENTER, 54 South State Street, Suite 303, Painesville, OH 44077 Grant Type: Comprehensive. Amount Awarded: $45,307.86. | GRANITE STATE INDEPENDENT LIVING (GSIL), 21 Chenell Drive, Concord, NH 03301 Grant Type: Comprehensive. Amount Awarded: $45,307.86.
FAITH FELLOWSHIP COMMUNITY DEVELOPMENT CORPORATION, 2707 Main Street, Sayreville, NJ 08872 Grant Type: Comprehensive. Amount Awarded: $30,846.23. | GREATER BOSTON LEGAL SERVICES, 197 Friend Street, Boston, MA 02114-1802 Grant Type: Comprehensive. Amount Awarded: $20,000.00.
FREDERICK COMMUNITY ACTION AGENCY, 100 S. Market St., Frederick, MD 21701-5527 Grant Type: Comprehensive. Amount Awarded: $20,000.00. | GREATER EAST SIDE COMMUNITY ASSOCIATION, 2804 N. Franklin Avenue, Flint, MI 48506 Grant Type: Comprehensive. Amount Awarded: $34,461.63.
FRIENDS OF THE NORTH COUNTRY, 1 Mill Street, P.O. Box 446, Keeseville, NY 12944 Grant Type: Comprehensive. Amount Awarded: $60,000.00. | GREATER ERIE COMMUNITY ACTION AGENCY, 18 W. 9th St., Erie, PA 16501-1343 Grant Type: Comprehensive. Amount Awarded: $39,620.00.
GARDEN STATE CONSUMER CREDIT COUNSELING, INC./NOVADEBT, 225 Willowbrook Road, Freehold, NJ 07728 Grant Type: Comprehensive. Amount Awarded: $22,785.00. | HAGERSTOWN NEIGHBORHOOD DEVELOPMENT PARTNERSHIP, INC., 21 East Franklin Street, Hagerstown, MD 21740 Grant Type: Comprehensive. Amount Awarded: $25,000.00.
GARFIELD JUBILEE ASSOCIATION, INCORPORATED, 5138 Penn Ave., Pittsburgh, PA 15224-1616 Grant Type: Comprehensive. Amount Awarded: $40,000.00. | HARFORD COUNTY HOUSING AGENCY, 15 South Main Street, Suite 106, Bel Air, MD 21014 Grant Type: Comprehensive. Amount Awarded: $49,000.00.
HOME PARTNERSHIP, INCORPORATED, Rumsey Towers Building, Suite 301, 626 Towne Center Drive, Joppatowne, MD 21085 Grant Type: Comprehensive. Amount Awarded: $36,000.00. | HOUSING COUNSELING SERVICES, INCORPORATED, 2410 17th St., NW., Adams Alley Entrance, Washington, DC 20009 Grant Type: Comprehensive. Amount Awarded: $52,538.68.
HOME REPAIR SERVICES OF KENT COUNTY, INC., 1100 S. Division Avenue, Grand Rapids, MI 49507 Grant Type: Comprehensive. Amount Awarded: $30,846.23. | HOUSING INITIATIVES PARTNERSHIP, INCORPORATED, 6525 Belcrest Road, Suite 555, Hyattsville, MD 20782 Grant Type: Comprehensive. Amount Awarded: $56,154.08.
HOMEFRONT, INC., 560 Delaware Avenue, Suite 101, Buffalo, NY 14202 Grant Type: Comprehensive. Amount Awarded: $20,000.00. | HOUSING OPPORTUNITIES MADE EQUAL, INCORPORATE, 700 East Franklin Street, Suite 3A, Richmond, VA 23219 Grant Type: Comprehensive. Amount Awarded: $70,615.72.
HOUSING ALLIANCE OF YORK, 35 South Duke Street, York, PA 17401-1106 Grant Type: Comprehensive. Amount Awarded: $23,615.41. | HOUSING PARTNERSHIP FOR MORRIS COUNTY, 2 E. Blackwell Street, Suite 12, Dover, NJ 07801 Grant Type: Comprehensive. Amount Awarded: $35,000.00.
HOUSING AUTHORITY OF THE CITY OF PATERSON, 60 Van Houten Street, P.O. Box H, Paterson, NJ 07509 Grant Type: Comprehensive. Amount Awarded: $27,230.82. | HUMAN DEVELOPMENT SERVICES OF WESTCHESTER, INC., 930 Mamaroneck Avenue, Mamaroneck, NY 10543 Grant Type: Comprehensive. Amount Awarded: $40,600.00.
HOUSING AUTHORITY OF THE COUNTY OF BUTLER, 114 Woody Drive, Butler, PA 16001 Grant Type: Comprehensive. Amount Awarded: $27,230.82. | INNER CITY CHRISTIAN FEDERATION, 920 Cherry SE., Grand Rapids, MI 49506 Grant Type: Comprehensive. Amount Awarded: $67,000.31.
HOUSING COUNCIL IN MONROE COUNTY, INCORPORATE, 183 Main St. E., Suite 1100, Rochester, NY 14604 Grant Type: Comprehensive. Amount Awarded: $48,923.27. | MARGERT COMMUNITY CORPORATION, 325 Beach 37th Street, Far Rockaway, NY 11691-1510 Grant Type: Comprehensive. Amount Awarded: $23,615.41.
ISLES, INCORPORATED, 619 Greenwood Avenue, Trenton, NJ 08609 Grant Type: Comprehensive. Amount Awarded: $23,615.41. | MARYLAND RURAL DEVELOPMENT CORPORATION, 101 Cedar Ave., P.O. Box 739, Greensboro, MD 21639-0739 Grant Type: Comprehensive. Amount Awarded: $23,615.41.
KANAWHA INSTITUTE FOR SOCIAL RESEARCH & ACTION, INC., 124 Marshall Avenue, Dunbar, WV 25064 Grant Type: Comprehensive. Amount Awarded: $40,000.00. | METRO-INTERFAITH SERVICES, INCORPORATED, 21 New St., Binghamton, NY 13903 Grant Type: Comprehensive. Amount Awarded: $20,000.00.
KEUKA HOUSING COUNCIL, 160 Main Street, Penn Yan, NY 14527 Grant Type: Comprehensive. Amount Awarded: $35,909.00. | MID-OHIO REGIONAL PLANNING COMMISSION, 285 E. Main St., Columbus, OH 43215-5272 Grant Type: Comprehensive. Amount Awarded: $33,000.00.
LACONIA AREA COMMUNITY LAND TRUST, 658 Union Avenue, Laconia, NH 03246 Grant Type: Comprehensive. Amount Awarded: $25,000.00. | MONMOUTH COUNTY BOARD OF CHOSEN FREEHOLDERS/MONMOUTH COUNTY DIVISION OF SOCIAL SERVICES, P.O. Box 3000, Freehold, NJ 07728 Grant Type: Comprehensive. Amount Awarded: $66,914.00.
LANSING AFFORDABLE HOMES, INC., 6810 South Cedar, Ste. #15, Lansing, MI 48911 Grant Type: Comprehensive. Amount Awarded: $41,692.45. | MT. AIRY, U S A, 6703 Germantown Ave.—Suite 200, Philadelphia, PA 19119 Grant Type: Comprehensive. Amount Awarded: $32,000.00.
LIGHTHOUSE COMMUNITY DEVELOPMENT, 46156 Woodward Avenue, Pontiac, MI 48342 Grant Type: Comprehensive. Amount Awarded: $88,692.76. | NATIONAL COUNCIL ON AGRICULTURAL LIFE AND LABOR RESEARCH FUND, INC., 363 Saulsbury Road, Dover, DE 19904-2722 Grant Type: Comprehensive. Amount Awarded: $38,077.04.
LYNCHBURG COMMUNITY ACTION GROUP, INCORPORATED, 926 Commerce Street, Lynchburg, VA 24504 Grant Type: Comprehensive. Amount Awarded: $38,077.04. | NEAR NORTHEAST COMMUNITY IMPROVEMENT CORP., 1326 Florida Ave., NE., Washington, DC 20002-7108 Grant Type: Comprehensive. Amount Awarded: $29,521.00.
NEIGHBORHOOD HOUSING SERVICES OF NEW BRITAIN, INC., 223 Broad St., New Britain, CT 06053-4107 Grant Type: Comprehensive. Amount Awarded: $35,000.00. | NORTHWEST MICHIGAN HUMAN SERVICES AGENCY, INC., 3963 Three Mile Road, Traverse City, MI 49686-9164 Grant Type: Comprehensive. Amount Awarded: $77,846.53.
NEIGHBORHOOD HOUSING SERVICES OF NEW YORK CITY (NHS OF NYC), 307 West 36th St., 12 floor, New York, NY 10018-6495 Grant Type: Comprehensive. Amount Awarded: $63,384.90. | NORTHWEST OHIO DEVELOPMENT AGENCY, 432 N. Superior Street, Toledo, OH 43604 Grant Type: Comprehensive. Amount Awarded: $36,000.00.
NEIGHBORS HELPING NEIGHBORS, INC., 443 39th Street, Suite 202, Brooklyn, NY 11232 Grant Type: Comprehensive. Amount Awarded: $23,615.41. | NY STATE OFFICE OF MENTAL RETARDATION AND DEVELOPMENTAL DISABILITIES (OMRDD), 44 Holland Avenue, Albany, NY 12229-0001 Grant Type: Comprehensive. Amount Awarded: $70,615.72.
NEIGHBORWORKS @ GREATER MANCHESTER, 20 Merrimack Street, Manchester, NH 03101 Grant Type: Comprehensive. Amount Awarded: $59,769.49. | OAKLAND COUNTY HOUSING COUNSELING, 250 Elizabeth Lake Road, Suite 1900, Pontiac, MI 48341-0414 Grant Type: Comprehensive. Amount Awarded: $62,000.00.
NEW JERSEY CITIZEN ACTION, 744 Broad Street, Suite 2080, Newark, NJ 07102 Grant Type: Comprehensive. Amount Awarded: $88,692.76. | OAKLAND LIVINGSTON HUMAN SERVICE AGENCY, 196 Cesar E. Chavez Ave., P.O. Box 430598, Pontiac, MI 48343-0598 Grant Type: Comprehensive. Amount Awarded: $20,000.00.
NEW RIVER COMMUNITY ACTION, INC., 644 West Main Street, Radford, VA 24141 Grant Type: Comprehensive. Amount Awarded: $20,000.00. | OPPORTUNITIES FOR CHENANGO, INC., 44 W. Main St., P.O. Box 470, Norwich, NY 13815-1613 Grant Type: Comprehensive. Amount Awarded: $34,461.63.
NEWPORT NEWS OFFICE OF HUMAN AFFAIRS, 392 Maple Ave., P.O. Box 37, Newport News, VA 23607 Grant Type: Comprehensive. Amount Awarded: $38,077.04. | OSWEGO HOUSING DEVELOPMENT COUNCIL, INC., 2971 County Rte 26, P.O. Box 147, Parish, NY 13131 Grant Type: Comprehensive. Amount Awarded: $40,000.00.
NORTHFIELD COMMUNITY LOCAL DEVELOPMENT CORPORATION, 160 Heberton Ave., Staten Island, NY 10302 Grant Type: Comprehensive. Amount Awarded: $48,923.27. | PEOPLE INCORPORATED OF SOUTHWEST VIRGINIA, 1173 W. Main Street, Abingdon, VA 24210-2428 Grant Type: Comprehensive. Amount Awarded: $44,564.00.
PHILADELPHIA COUNCIL FOR COMMUNITY ADVANCEMENT, 100 North 17th Street, Suite 500, Philadelphia, PA 19103-2736 Grant Type: Comprehensive. Amount Awarded: $20,000.00. | PIEDMONT HOUSING ALLIANCE, 111 Monticello Ave., Ste. 104, Charlottesville, VA 22902 Grant Type: Comprehensive. Amount Awarded: $45,307.86.
PLYMOUTH REDEVELOPMENT AUTHORITY, 11 Lincoln Street, Plymouth, MA 02360 Grant Type: Comprehensive. Amount Awarded: $45,000.00. | PRO-HOME, INC., P.O. Box 2793, Taunton, MA 02780 Grant Type: Comprehensive. Amount Awarded: $52,538.68.
PRINCE WILLIAM COUNTY VIRGINIA COOPERATIVE EXTENSION, 8033 Ashton Ave., Ste. 105, Manassas, VA 20109-8202 Grant Type: Comprehensive. Amount Awarded: $74,231.13. | PUTNAM COUNTY HOUSING CORPORATION, 11 Seminary Hill Road, Carmel, NY 10512 Grant Type: Comprehensive. Amount Awarded: $36,000.00.
QUIN RIVERS, INC., 104 Roxbury Industrial Center, Charles City, VA 23030 Grant Type: Comprehensive. Amount Awarded: $27,230.82. | RURAL ULSTER PRESERVATION COMPANY, 289 Fair St., Kingston, NY 12401 Grant Type: Comprehensive. Amount Awarded: $56,000.00.
QUINCY COMMUNITY ACTION PROGRAMS, INC., 1509 Hancock St., Quincy, MA 02169-5200 Grant Type: Comprehensive. Amount Awarded: $40,000.00. | SCHUYLKILL COMMUNITY ACTION, 206 North Second Street, Pottsville, PA 17901 Grant Type: Comprehensive. Amount Awarded: $23,615.41.
ROCKLAND HOUSING ACTION COALITION, 95 New Clarkstown Road, Nanuet, NY 10954 Grant Type: Comprehensive. Amount Awarded: $50,000.00. | SENIOR CITIZENS UNITED COMMUNITY SERVICES OF CAMDEN COUNTY, INC., 146 Black Horse Pike, Mount Ephraim, NJ 08059-2007 Grant Type: Comprehensive. Amount Awarded: $20,000.00.
RURAL SULLIVAN HOUSING CORPORATION, 6 Pelton Street, P.O. Box 1497, Monticello, NY 12701-1128 Grant Type: Comprehensive. Amount Awarded: $27,230.82. | SKYLINE COMMUNITY ACTION PROGRAM, INCORPORATED, 31 Stanard Street, P.O. Box 508, Stanardsville, VA 22973 Grant Type: Comprehensive. Amount Awarded: $63,950.00.
SOUTHERN APPALACHIAN LABOR SCHOOL FOUNDATION, INC., P.O. Box 127, 735 Beards Fork Rd., Beards Fork, WV, Kincaid, WV 25119 Grant Type: Comprehensive. Amount Awarded: $34,461.63. | SOUTHERN MARYLAND TRI-COUNTY COMMUNITY ACTION, 8383 Leonardtown Rd., P.O. Box 280, Hughesville, MD 20637 Grant Type: Comprehensive. Amount Awarded: $30,846.23.
SOUTHERN HILLS PRESERVATION CORPORATION, 2383 Route 11 Unit 1, LaFayette, NY 13084 Grant Type: Comprehensive. Amount Awarded: $20,000.00. | SOUTHWESTERN PENNYSLVANIA LEGAL SERVICES INC., 10 West Cherry Avenue, Central Office, Washington, PA 15301 Grant Type: Comprehensive. Amount Awarded: $70,615.72.
STARK METROPOLITAN HOUSING AUTHORITY, 400 E. Tuscarawas Street, Canton, OH 44702 Grant Type: Comprehensive. Amount Awarded: $32,146.00. | TABOR COMMUNITY SERVICES, INC., 308 East King St., Lancaster, PA 17608-1676 Grant Type: Comprehensive. Amount Awarded: $56,154.08.
TEDFORD HOUSING, 34 Federal, Brunswick, ME 04011 Grant Type: Comprehensive. Amount Awarded: $23,615.41. | TELAMON CORPORATION, 111 Henry St., P.O. Box 500, Gretna, VA 24557-0500 Grant Type: Comprehensive. Amount Awarded: $45,307.86.
THE SOUTHEASTERN TIDEWATER OPPORTUNITY PROJECT, 2551 Almeda Ave., Norfolk, VA 23513-2443 Grant Type: Comprehensive. Amount Awarded: $59,769.49. | THE TREHAB CENTER INC., 10 Public Avenue, P.O. Box 366, Montrose, PA 18801-0366 Grant Type: Comprehensive. Amount Awarded: $30,000.00.
THE URBAN LEAGUE OF RHODE ISLAND, 246 Prairie Ave., Providence, RI 02905-2397 Grant Type: Comprehensive. Amount Awarded: $48,923.27. | TOTAL ACTION AGAINST POVERTY IN ROANOKE VALLEY, 145 Campbell Ave., Suite 700, Roanoke, VA 24011 Grant Type: Comprehensive. Amount Awarded: $51,536.03.
THE WAY HOME, 214 Spruce Street, Manchester, NH 03103 Grant Type: Comprehensive. Amount Awarded: $52,055.00. | TRI-CITY PEOPLES CORPORATION, 675 S. 19th Street, Newark, NJ 07103 Grant Type: Comprehensive. Amount Awarded: $52,538.68.
TRI-COUNTY HOUSING COUNCIL, 143 Hibbard Road, P.O. Box 451, Big Flats, NY 14814 Grant Type: Comprehensive. Amount Awarded: $32,997.00. | TROY REHABILITATION AND IMPROVEMENT PROGRAM, 415 River Street, Ste. 3, Troy, NY 12180, Main Office, Troy, NY 12180 Grant Type: Comprehensive. Amount Awarded: $61,500.00.
UNITED NEIGHBORHOOD CENTERS OF LACKAWANNA COUNTY, 425 Alder Street, Scranton, PA 18505 Grant Type: Comprehensive. Amount Awarded: $67,000.31. | WASHINGTON COUNTY COMMUNITY ACTION COUNCIL, 101 Summit Ave., Hagerstown, MD 21740 Grant Type: Comprehensive. Amount Awarded: $30,846.23.
WESTCHESTER RESIDENTIAL OPPORTUNITIES, INCORPORATED, 470 Mamaroneck Ave., Suite 410, White Plains, NY 10605-1830 Grant Type: Comprehensive. Amount Awarded: $34,461.63. | WESTERN CATSKILLS COMMUNITY REVITALIZATION COUNCIL, INC., 125 Main Street, Box A, Stamford, NY 12167 Grant Type: Comprehensive. Amount Awarded: $27,200.00.
WORKING IN NEIGHBORHOODS, 1814 Dreman Avenue, Cincinnati, OH 45223 Grant Type: Comprehensive. Amount Awarded: $38,077.04. | WSOS COMMUNITY ACTION COMMISSION, INC., 109 S. Front Street, P.O. Box 590, Fremont, OH 43420 Grant Type: Comprehensive. Amount Awarded: $23,615.41.
YWCA DELAWARE, 153 E. Chestnut Hill Road, Robscott Building, Suite 102, Newark, DE 19713 Grant Type: Comprehensive. Amount Awarded: $59,769.49.
Santa Ana (LHCA-COMP)
ACCESS INCORPORATED, 3630 Aviation Way, P.O. Box 4666, Medford, OR 97501 Grant Type: Comprehensive. Amount Awarded: $20,000.00. | LAO FAMILY COMMUNITY DEVELOPMENT, INC., 1551-23rd Avenue, Oakland, CA 94606 Grant Type: Comprehensive. Amount Awarded: $38,077.04.
ADMINISTRATION OF RESOURCES AND CHOICES, P.O. Box 86802, Tucson, AZ 85754 Grant Type: Comprehensive. Amount Awarded: $34,461.63. | LEGAL AID SOCIETY OF HAWAII, 924 Bethel Street, P.O. Box 37375, Honolulu, HI 96813 Grant Type: Comprehensive. Amount Awarded: $20,000.00.
ANAHEIM HOUSING AUTHORITY—ANAHEIM HOUSING COUNSELING AGENCY, 201 S. Anaheim Blvd., Suite 501, Anaheim, CA 92805 Grant Type: Comprehensive. Amount Awarded: $30,846.23. | MISSION ECONOMIC DEVELOPMENT ASSOCIATION (MEDA), 3505 20th St., San Francisco, CA 94110 Grant Type: Comprehensive. Amount Awarded: $45,307.86.
ASIAN INCORPORATED, 1167 Mission Street, 4th Floor, San Francisco, CA 94103 Grant Type: Comprehensive. Amount Awarded: $20,000.00. | NEIGHBORHOOD HOUSE ASSOCIATION, 841 S. 41st Street, San Diego, CA 92113 Grant Type: Comprehensive. Amount Awarded: $63,384.90.
BYDESIGN FINANCIAL SOLUTIONS, DBA CCCS OF LOS ANGELES, 6001 E. Washington Blvd., Suite 200, Los Angeles, CA 90040-2922 Grant Type: Comprehensive. Amount Awarded: $70,615.72. | OPEN DOOR COUNSELING CENTER, 34420 SW. Tualatin Valley Hwy., Hillsboro, OR 97123-5470 Grant Type: Comprehensive. Amount Awarded: $74,231.13.
COMMUNITY ACTION PARTNERSHIP, 124 New Sixth Street, Lewiston, ID 83501 Grant Type: Comprehensive. Amount Awarded: $59,769.49. | ORANGE COUNTY FAIR HOUSING COUNCIL, INC., 201 S. Broadway, Santa Ana, CA 92701-5633 Grant Type: Comprehensive. Amount Awarded: $23,615.41.
COMMUNITY HOUSING DEVELOPMENT CORPORATION OF NORTH RICHMOND, 1535A 3rd Street, Richmond, CA 94801 Grant Type: Comprehensive. Amount Awarded: $20,000.00. | PACIFIC COMMUNITY SERVICES, INC., 329 Railroad Ave., Pittsburg, CA 94565-2245 Grant Type: Comprehensive. Amount Awarded: $30,846.23.
CONSUMER CREDIT COUNSELING SERVICE OF ORANGE COUNTY, 1920 Old Tustin Ave., (P.O. Box 11330, Santa Ana, CA 92711-1330) Santa Ana, CA 92705 Grant Type: Comprehensive. Amount Awarded: $67,000.31. | PROJECT SENTINEL, 430 Sherman Avenue, Suite 308, Palo Alto, CA 94306 Grant Type: Comprehensive. Amount Awarded: $77,846.53.
CONSUMER CREDIT COUNSELING SERVICE OF SAN FRANCISCO, 595 Market Street, 15th Floor, San Francisco, CA 94105 Grant Type: Comprehensive. Amount Awarded: $30,846.23. | SACRAMENTO NEIGHBORHOOD HOUSING SERVICES, INC., 2400 Alhambra Blvd., P.O. Box 5420, Sacramento, CA 95817 Grant Type: Comprehensive. Amount Awarded: $38,077.04.
CONSUMER CREDIT COUNSELING SERVICE OF SOUTHERN NEVADA, 2650 S. Jones Blvd., Las Vegas, NV 89146 Grant Type: Comprehensive. Amount Awarded: $30,846.23. | SAN DIEGO HOME LOAN COUNSELING AND EDUCATION CENTER, 3180 University Avenue, Suite 120, San Diego, CA 92104 Grant Type: Comprehensive. Amount Awarded: $20,000.00.
CONSUMER CREDIT COUNSELORS OF KERN AND TULARE COUNTIES, 5300 Lennox Ave., Ste. 200, Bakersfield, CA 93309-1662 Grant Type: Comprehensive. Amount Awarded: $23,615.41. | SOLID GROUND WASHINGTON, 1501 North 45th Street, Seattle, WA 98103-6708 Grant Type: Comprehensive. Amount Awarded: $59,769.49.
EDEN COUNCIL FOR HOPE AND OPPORTUNITY (ECHO), 770 A St., Hayward, CA 94541-3956 Grant Type: Comprehensive. Amount Awarded: $41,692.45. | SOUTHEASTERN ARIZONA GOVERNMENTS ORGANIZATION, 118 Arizona St., Bisbee, AZ 85603-1800 Grant Type: Comprehensive. Amount Awarded: $20,000.00.
FAMILY HOUSING RESOURCES, 1700 East Fort Lowell Road, Suite 101, Tucson, AZ 85719 Grant Type: Comprehensive. Amount Awarded: $59,769.49. | SPOKANE NEIGHBORHOOD ACTION PROGRAMS, 2116 East First Avenue, Spokane, WA 99202-3937 Grant Type: Comprehensive. Amount Awarded: $74,231.13.
HOUSING AUTHORITY OF THE CITY OF FRESNO, 1331 Fulton Mall, P.O. Box 11985, Fresno, CA 93721 Grant Type: Comprehensive. Amount Awarded: $56,154.08. | SPRINGBOARD NON PROFIT CONSUMER CREDIT MANAGEMENT INC., 4351 Latham Street, Riverside, CA 92501 Grant Type: Comprehensive. Amount Awarded: $85,077.35.
HOUSING AUTHORITY OF THE COUNTY OF SANTA CRUZ, 2931 Mission St., Santa Cruz, CA 95060 Grant Type: Comprehensive. Amount Awarded: $42,156.00. | UMPQUA COMMUNITY ACTION NETWORK, 2448 W. Harvard Blvd., Roseburg, OR 97470 Grant Type: Comprehensive. Amount Awarded: $25,000.00.
INLAND MEDIATION BOARD, 60 East 9th Street, Suite 100, Upland, CA 91786 Grant Type: Comprehensive. Amount Awarded: $27,230.82. | WASHOE COUNTY DEPT OF SENIOR SERVICES—SENIOR LAW PROJECT, 1155 E. Ninth St., Reno, NV 89512 Grant Type: Comprehensive. Amount Awarded: $50,700.00.
INSTITUTE FOR HUMAN SERVICES, INC. (IHS), 546 Ka'aahi Street, Honolulu, HI 96817 Grant Type: Comprehensive. Amount Awarded: $23,615.41. | LABOR'S COMMUNITY SERVICE AGENCY, 5818 N. 7th St., Ste. 100, Phoenix, AZ 85014-5810 Grant Type: Comprehensive. Amount Awarded: $41,272.00.

State Housing Finance Agencies (17)
Atlanta (SHFA-COMP)
GEORGIA HOUSING AND FINANCE AUTHORITY, 60 Executive Park South, NE., Atlanta, GA 30329-2231 Grant Type: Comprehensive. Amount Awarded: $193,280.13. | KENTUCKY HOUSING CORPORATION,1231 Louisville Road, Frankfort, KY 40601 Grant Type: Comprehensive. Amount Awarded: $88,208.13.
MISSISSIPPI HOME CORPORATION, 735 Riverside Drive, P.O. Box 23369, Jackson, MS 39225-3369 Grant Type: Comprehensive. Amount Awarded: $126,416.25.
Denver (SHFA-COMP)
IOWA FINANCE AUTHORITY, 2015 Grand Ave., Des Moines, IA 50312 Grant Type: Comprehensive. Amount Awarded: $59,640.00. | NEW MEXICO MORTGAGE FINANCE AUTHORITY, 344 Fourth Street, SW., Albuquerque, NM 87102 Grant Type: Comprehensive. Amount Awarded: $164,624.38.
MONTANA BOARD OF HOUSING, Box 200528, Helena, MT 59620 Grant Type: Comprehensive. Amount Awarded: $164,624.38. | NORTH DAKOTA HOUSING FINANCE AGENCY, 1500 East Capitol Avenue, P.O. Box 1535, Bismarck, ND 58502-1535 Grant Type: Comprehensive. Amount Awarded: $164,624.34.
SOUTH DAKOTA HOUSING DEVELOPMENT AUTHORITY, 221 South Central, P.O. Box 1237, Pierre, SD 57501-1237 Grant Type: Comprehensive. Amount Awarded: $97,760.16.
Philadelphia (SHFA-COMP)
MAINE STATE HOUSING AUTHORITY, 353 Water Street, Augusta, ME 04330 Grant Type: Comprehensive. Amount Awarded: $123,000.00. | RHODE ISLAND HOUSING AND MORTGAGE FINANCE CORPORATION, 44 Washington St., Providence, RI 02903-1721 Grant Type: Comprehensive. Amount Awarded: $164,624.38.
MICHIGAN STATE HOUSING DEVELOPMENT AUTHORITY, 735 E. Michigan Avenue, P.O. Box 30044, Lansing, MI 48909 Grant Type: Comprehensive. Amount Awarded: $145,520.31. | VIRGINIA HOUSING DEVELOPMENT AUTHORITY, 601 S. Belvedere Street, Richmond, VA 23220 Grant Type: Comprehensive. Amount Awarded: $171,180.00.
NEW HAMPSHIRE HOUSING FINANCE AUTHORITY, 32 Constitution Drive, Bedford, NH 03110 Grant Type: Comprehensive. Amount Awarded: $50,000.00. | OHIO HOUSING FINANCE AGENCY, 57 E. Main Street, Columbus, OH 43215-5135 Grant Type: Comprehensive. Amount Awarded: $88,208.13.
PENNSYLVANIA HOUSING FINANCE AGENCY, 211 North Front Street, Harrisburg, PA 17101-1406 Grant Type: Comprehensive. Amount Awarded: $174,176.41.
Santa Ana (SHFA-COMP)
IDAHO HOUSING AND FINANCE ASSOCIATION, 565 West Myrtle, P.O. Box 7899, Boise, ID 83702 Grant Type: Comprehensive. Amount Awarded: $135,968.28. | WASHINGTON STATE HOUSING FINANCE COMMISSION, 1000 2nd Avenue, Suite 2700, Seattle, WA 98104-1046 Grant Type: Comprehensive. Amount Awarded: $164,624.38.

HECM (2) Intermediary (HECM)
MONEY MANAGEMENT INTERNATIONAL INC., 9009 West Loop South, Suite 700, Houston, TX 77096-1719 Grant Type: HECM. Amount Awarded: $1,135,000.00. | NATIONAL FOUNDATION FOR CREDIT COUNSELING, INC., 801 Roeder Road, Suite 900, Silver Spring, MD 20910-3372 Grant Type: HECM. Amount Awarded: $1,865,000.00.

[FR Doc. E8-6099 Filed 3-25-08; 8:45 am]

BILLING CODE 4210-67-P